DEPARTMENT OF THE INTERIOR

Bureau of Indian Affairs

Metlakatla Indian Community Alcohol Possession Code Correction

AGENCY: Bureau of Indian Affairs, Interior.

ACTION: Notice; correction.

SUMMARY: The Bureau of Indian Affairs published a document in the Federal Register of August 13, 2008, concerning the amended Metlakatla Indian Community Alcohol Possession Code. The document included a section deleted in the original.

DATES: Effective Date: This correction is effective as of September 10, 2008.

FOR FURTHER INFORMATION CONTACT: Elizabeth Colliflower, Office of Tribal Services, 1849 C Street, NW., Mail Stop 4513-MIB, Washington, DC 20240; Telephone (202) 513-7640; Fax (202) 208-5113.

Correction

In the Federal Register of August 13, 2008, in FR Doc. E8-18771, on page 47211, in the second column, delete in its entirety:

Section One.1.56 Liquour Violation.

Any person who shall, within the Annette Islands Reserve sell, barter, transport, possess, consume, or have consumed, or manufacture any alcoholic beverage shall be guilty of an offense and, upon conviction thereof, shall be sentenced to labor for a period of not more than six (6) months or to pay a fine not to exceed the constitutional limit, or both, with costs.

Dated: September 2, 2008.
George T. Skibine,
Acting Deputy Assistant Secretary for Policy and Economic Development.

[FR Doc. E8-20951 Filed 9-9-08; 8:45 am]

BILLING CODE 4310-4J-P